Title 3—

The President

Proclamation 10772 of May 31, 2024

Immigrant Heritage Month, 2024

By the President of the United States of America

A Proclamation

America is the only country in the world with a heart and soul that draws from old and new. We are home to people whose ancestors have been here for thousands of years and home to people from every place on Earth. Some people came freely, some came chained by force, some came when famine struck or to flee persecution, and some came to chase dreams that are only possible here in America. We all come from somewhere, but we are all Americans. This month, we honor the contributions and celebrate the remarkable courage of our Nation's immigrants, whose hopes and dreams helped found this country and continue to push us forward today.

My own family came to America in the mid-1800s, when famine struck their homeland in Ireland. The Finnegans of County Louth and the Blewitts of County Mayo traveled across an ocean, landing on America's shores with an unbending belief in the possibilities our Nation had to offer. Vice President Kamala Harris' parents emigrated from India and Jamaica to pursue their education in medicine and economics. So many Americans share a similar story—their families leaving everything behind to pursue the American Dream and working tirelessly to build good lives for themselves and good futures for their families.

Immigrants keep our economy strong and help drive the success of our Nation. They ensure our safety as first responders and military service members; they maintain the health of our communities as doctors and nurses; they are there for our family members and children as educators and care workers; they feed and fuel our population as more than half of the Nation's farmworkers; they are one in five of our business owners; and they are leaders in technology, philanthropy, and media. All told, they contribute hundreds of billions of dollars in taxes each year and create millions of jobs. The ingenuity, grit, and perseverance of immigrants are driving forces in every aspect of American life.

On day one of my Administration, I sent a comprehensive plan to the Congress to fix our broken immigration system. It aimed to expand legal pathways of immigration; provide protections for Dreamers and others who contribute to this country; and address the violence, corruption, and instability that leads many to flee their homes. My Administration has worked tirelessly to strengthen our legal immigration system and support those who are here. We have rebuilt the United States Refugee Admissions Program, which once again serves as a beacon for displaced persons around the world. We continue to vigorously defend the Deferred Action for Childhood Arrivals (DACA) policy, which has allowed more than 800,000 Dreamers to live and work in the place they call home, against attacks in the courts. For the first time ever, we have extended Affordable Care Act coverage to DACA recipients. We have also expanded legal pathways for people from Venezuela, Cuba, Nicaragua, and Haiti and instituted reunification programs so that families stay together while they complete the immigration process. My Administration will continue to do everything we can, but we need the Congress to take action and provide funding and resources necessary to secure our border and reform our immigration system.

As Americans, we have an obligation to ensure that everyone feels safe and respected. We must give hate no safe harbor. But too often, immigrant communities remain the target of bias and discrimination. That is why my Administration is fighting against the rise of all forms of hate. In 2021, I signed the COVID-19 Hate Crimes Act, making it easier to report hate crimes, and I also established the White House Initiative on Hate-Motivated Violence to counter these types of attacks and foster national unity.

During my trip to Ireland last year, I walked the streets my ancestors used to walk and looked out at the ocean they crossed two centuries earlier to reach America. For hundreds of years, people from around the world have made the courageous trek to our Nation's soil. They are drawn to our shores by the American idea that we are all created equal and deserve to be treated equally throughout our lives. We have never fully lived up to that promise, but we have never walked away from it either. This month—and every month—may we recommit to keeping lit the torch of liberty that has led generations of immigrants to America.

NOW, THEREFORE, I, JOSEPH R. BIDEN JR., President of the United States of America, by virtue of the authority vested in me by the Constitution and the laws of the United States, do hereby proclaim June 2024 as National Immigrant Heritage Month. I call upon the people of the United States to learn more about the history of our Nation's diverse and varied immigrant communities and to observe this month with appropriate programs and activities that remind us of the values of diversity, equity, and inclusion.

IN WITNESS WHEREOF, I have hereunto set my hand this thirty-first day of May, in the year of our Lord two thousand twenty-four, and of the Independence of the United States of America the two hundred and forty-eighth.

[FR Doc. 2024-12540

Filed 6-5-24; 8:45 am]

Billing code 3395-F4-P